DEPARTMENT OF DEFENSE

Department of the Army; Corps of Engineers

Intent To Prepare a Draft Supplemental Environmental Impact Statement (DSEIS) for the Atchafalaya Basin Floodway System Project, Buffalo Cove Management Unit, Located in Both St. Martin and Iberia Parishes, LA

AGENCY: Department of the Army, U.S. Army Corps of engineers, DOD.

ACTION: Notice of intent.

SUMMARY: The U.S. Army Corps of Engineers, New Orleans District (CEMVN), intends to evaluate water management features to improve water quality and interior water circulation, remove barriers to reestablish north to south water flow; provide input of oxygenated low temperature water; and reduce or manage sediment input into the interior swamp. The action is necessary due to the existing poor water quality resulting from the lack of internal circulation and oxygenated water inputs, and increased sedimentation. In addition if action is not taken, both deep-water and shallow water habitat utilized by fish and wildlife resources will continue to be lost, reduced, or degraded. The intended result of the proposed work is to prolong the life expectancy of the productive habitat (primarily aquatic and cypress tupelo habitats) that would become scarce over time by restricting or redirecting sediments, while simultaneously achieving a healthy water circulation pattern that would maintain or restore water quality and reestablish north to south water movement.

FOR FURTHER INFORMATION CONTACT: Questions concerning the DSEIS should be addressed to Mr. Larry Hartzog at U.S. Army Corps of Engineers, PM-RP, P.O. Box 60267, New Orleans, LA 70160-0267, phone (504) 862-2524, fax number (504) 862-2572 or by E-mail at Larry.M.Hartzog@mvn02.usace.army.mi.

SUPPLEMENTARY INFORMATION: The CEMVN, is initiating this DSEIS under the authority of the Flood Control Act of May 15, 1928 (Pub. L. 391, 70th Congress), as amended and supplemented. Construction of two pilot management units (Buffalo Cove and Henderson Lake) is authorized by the Supplemental Appropriations Act of 1985 (Pub. L. 99-88) and the Water Resources Development Act (WRDA) of 1986 (Pub. L. 99-662), with construction of three additional authorized management units (Flat Lake, Beau Bayou, and Cocodrie Swamp) to take place upon approval of the Chief of Engineers after evaluation of the operational success of the initial two pilot management units. WRDA 1986 authorized the USACE to carry out the recommended plan for management units as described in the Atchafalaya Basin Floodway System feasibility report and Environmental Impact Statement of 1982 and the subsequent Chief of Engineers Report dated February 28, 1983. Under this authority, an assessment of environmental impacts associated with the construction, operation, and maintenance of water management activities in the Buffalo Cove Management Unit will be made.

l. Proposed Act. The proposed action will consist of a series of closures and sediment traps (to reduce sediment influx); construction of new, or improvement of existing inputs for river water; and gap construction in existing embankments. Closures will be placed in areas that have the greatest potential for introduction of sediment. Closure heights will be designed to optimize sediment reduction. Construction of water inputs will be evaluated in areas where sediment-lean, fresh water sources can be easily connected to existing canals or bayous to conduit water into areas of poor water quality. Sediment traps will be designed as necessary in conjunction with the freshwater input sites. Gaps will be sized and placed in both elevated natural banks as well as dredged material embankments that impede water flow or induce stagnation. These gaps are primarily intended to improve drainage and reestablish flow through the interior swamp basin. Excavated material will be either placed in a non-continuous manner in order to not disrupt sheet flow, or if practicable, the material will be used to create closures.

2. Alternatives. The alternative formulation process will include an evaluation of the “no action alternative”, a monitored passive management plan, and the original structural alternative plan as proposed in the 1982 Atchafalaya Basin Floodway System Final Environmental Impact Statement which included construction of ring levees and active structures. The current alternative analysis will continue to evolve throughout the development of the DSEIS. Alternatives to be evaluated include different methods of sediment reduction, water input, and improving internal circulation with the management unit. Sediment reduction alternatives will include the use of various sediment trap sizes and placements, construction of sediment traps with and without maintenance, and monitoring the effectiveness of sediment reduction utilizing both partial and complete closures at sites of suspected sediment inputs. Alternative methods will also be evaluated for water introduction and include; diverse configurations of water inputs (sinuous, straight, length and depth), improvements to existing natural and manmade inlets, reopening natural and man-made inputs, and siting of bank shavings to reduce barriers to water input. In addition, various sizes, numbers and placement of gaps in existing canal banks, ridges and other internal circulation impediments will be considered in the alternatives.

3. Scoping Process. The Council on Environmental Quality regulations implementing the National Environmental Policy Act (NEPA) process directs Federal agencies that have made a decision to prepare an environmental impact statement to engage in a public scoping process. The scoping process is designed to provide an early and open means of determining the scope of issues (problems, needs, and opportunities) to be identified and addressed in the draft environmental impact assessment, which in this case is a DSEIS.

Scoping is the process used to: (a) Identify the affected public and agency concerns; (b) facilitate an efficient DSEIS preparation process; (c) define the issues and alternatives that will be examined in detail in the DSEIS; (d) and save time in the overall process by helping to ensure that the draft statements adequately address relevant issues. Scoping is a process, not an event or a meeting. It continues throughout the planning process for a DSEIS and may involve meetings, telephone conversations, and/or written comments. Scoping comments will be compiled, analyzed, and utilized in the plan formulation process. A scoping report, summarizing the comments, will be made available to all scoping participants in the initial scoping meetings and included in the public involvement appendix of the final Supplemental Environmental Impact Statement (FSEIS).

a. Public Involvement. Scoping is a critical component of the overall public involvement program. An intensive public involvement program will continue throughout the study to solicit input from affected Federal, state, and local agencies, native American tribes, and other interested parties. This public input will be obtained through a series of scoping meetings open to the general public. In addition to these meetings there will be additional continual public involvement through the Louisiana Department of Natural Resources Division's Atchafalaya Basin Advisory Committee meetings on Water Management. CEMVN personnel actively participate, contribute, and utilize information obtained from these meetings. CEMVN personnel will be available for additional informational meetings if needed or requested by various interested and or affected public, private and conservation interests such as: Landowners, oil and gas interests, commercial and recreational hunters and fishers, forestry interests, and the Sierra Club, Nature Conservancy, Audubon Society or other conservation organizations.

Significant Issues: The tentative list of resources and issues to be evaluated in the EIS includes forested wetlands (includes cypress/tupelo swamp as well as infrequently inundated areas of ash, oak, elm, hackberry and cypress), water quality, aquatic resources, commercial and recreational fisheries, wildlife resources, essential fish habitat, water quality, air quality, threatened and endangered species, recreation resources, and cultural resources. Socioeconomic items to be elevated in the EIS include employment, land use, property values, public/community facilities and services, community and regional growth, transportation, housing, community cohesion, and noise.

Ineragency Coordination. The Department of Interior, U.S.Fish and Wildlife Service (USFWS), will provide a Fish and Wildlife Coordination Act Report. Coordination will be maintained with the USFWS regarding threatened and endangered species. Coordination will be maintained with the National Resources Conservation Service regarding prime and unique farmlands. Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Rivers and Streams. The Louisiana Department of Environmental Quality will review the action for consistency with applicable laws regarding the discharge of dredged material as it relates to impacting water quality and will provide the State of Louisiana Water Quality Certification.

d. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National Marine Fisheries Service (NMFS) concerning threatened and endangered species and their critical habitat. The NMFS will be consulted on the effects of this proposed action on Essential Fish Habitat. The DSEIS or a notice of its availability will be distributed to all interested agencies, organizations, and individuals.

4. Three public scoping meetings are to be scheduled in 2004. Based on available funding the tentative meeting locations will be Baton Rouge, Lafayette and St. Martinville, LA. Exact dates and meeting facility will be announced by public notice at a later date. The purpose of the scoping meeting is to provide the agencies and the interested public with the initial conceptual designs, preliminary designs known and designs under consideration for the proposed water management project for the Buffalo Cove Management Unit and issues concerning its construction and operation.

5. Estimated Date of Availability. Funding levels will dictate the date when the DEIS is available. The earliest that the DEIS is expected to be available is in the fall of 2006.

Dated: July 4, 2004.
Peter J. Rowan,
Colonel, U.S. Army, District Engineer.

[FR Doc. 04-16229 Filed 7-15-04; 8:45 am]

BILLING CODE 3710-84-M